U.S. AGENCY FOR INTERNATIONAL DEVELOPMENT

Notice of Public Information Collections Being Reviewed by the U.S. Agency for International Development; Comments Requested

SUMMARY: U.S. Agency for International Development (USAID) is making efforts to reduce the paperwork burden. USAID invites the general public and other Federal agencies to take this opportunity to comment on the following proposed and/or continuing information collections, as required by the Paperwork Reduction Act for 1995. Comments are requested concerning: (a) The accuracy of the burden estimates; (b) ways to enhance the quality, utility, and clarity of the information collected; and (c) ways to minimize the burden of the collection of information on the respondents, including the use of automated collection techniques, or other forms of information technology.

DATES: Submit comments on or before February 16, 2018.

FOR FURTHER INFORMATION CONTACT: Sylvia Joyner, Bureau for Management, Office of Management Services, Information and Records Division, U.S. Agency for International Development, Room 2.07C, RRB, Washington, DC 20523, (202) 712-5007 or via email sjoyner@usaid.gov.

Comments: Send comments via email to jltaylor@usaid.gov, U.S. Agency for International Development, Office of Acquisition and Assistance, 1300 Pennsylvania Avenue NW, SA-44 Room 867-C, Washington, DC 20523, 202-567-4673.

SUPPLEMENTARY INFORMATION:

OMB No.:

Form No.: AID 309-2.

Title: Offeror Information for Personal Services Contracts With Individuals.

Type of Review: Revision of a currently approved collection.

Purpose: United States Agency for International Development must collect information for reporting purposes to Congress and Office of Acquisition and Assistance Contract Administration. This form will be used to collect information to determine the most qualified person for a position without gathering information that may lead to discrimination or bias towards or gathered from applicant.

Annual Reporting Burden:

U.S. Respondents: 12,684.

Total annual U.S. responses: 12,684.

Total annual hours requested: 12,684 hours.

The burden estimate is based on the average number of PSC awards made over the past three years, which is 604. The average number of offerors received for each solicitation is 21. Therefore, the total number of offers received is 604 × 21 = 12,684. The amount of time estimated to complete the form is one hour.

Dated: November 16, 2017.
Mark Walther,
Acting Senior Procurement Executive.

[FR Doc. 2017-27163 Filed 12-15-17; 8:45 am]

BILLING CODE P